DEPARTMENT OF HEALTH AND HUMAN SERVICES

Administration for Children and Families

[OMB No. 0970-0545]

Proposed Revision to Information Collection Activity; Next Generation of Enhanced Employment Strategies Project

AGENCY: Office of Planning, Research, and Evaluation, Administration for Children and Families, HHS.

ACTION: Request for public comment.

SUMMARY: The Office of Planning, Research, and Evaluation (OPRE) within the Administration for Children and Families is proposing revisions to data collection activities conducted for the Next Generation of Enhanced Employment Strategies (NextGen) Project (OMB #0970-0545). The project is rigorously evaluating innovative interventions to promote employment and economic security among low-income individuals with complex challenges. The project includes an experimental impact study, descriptive study, and cost study. The project is seeking approval for two participant follow-up surveys and related materials with proposed changes to the instruments and to the tokens of appreciation for the follow-up surveys. The requested changes do not require any changes to the previously submitted and approved burden estimates.

DATES: Comments due within 30 days of publication. OMB is required to make a decision concerning the collection of information between 30 and 60 days after publication of this document in the Federal Register. Therefore, a comment is best assured of having its full effect if OMB receives it within 30 days of publication.

ADDRESSES: Copies of the proposed collection of information can be obtained and comments may be forwarded by emailing OPREinfocollection@acf.hhs.gov. Identify all requests by the title of the information collection.

SUPPLEMENTARY INFORMATION: Description: OPRE is conducting the NextGen Project to build the evidence around effective strategies for helping low-income individuals find and sustain employment. This project will identify and test innovative employment programs designed to help people facing complex challenges secure economic independence. The project is partnering with the Social Security Administration to incorporate a focus on employment-related early interventions for people with current or foreseeable disabilities who have limited work history and are potential applicants for Supplemental Security Income.

Prior information collection requests for the project (see https://www.reginfo.gov/public/do/PRAViewICR?ref_nbr=202102-0970-003) occurred in two phases. Phase 1 instruments—the informed consent form, baseline survey, and identifying and contact information collection—were approved in April 2020. Phase 2 instruments—staff characteristics survey, program leadership survey, semi-structured program participant discussion guide, semi-structured employer discussion guide, service receipt tracking, in-depth participant interview guide, and cost workbook—were approved in December 2020. Approval for changes to the Phase 1 and some Phase 2 instruments was received in March 2021.

We now seek approval for the first and second follow-up surveys, advance letters and related materials, and changes to the proposed tokens of appreciation for the follow-up surveys.

Below are additional details regarding this clearance request.

First Follow-Up Survey (Instrument 3)

We propose the following revisions to the first follow-up survey:

• Minor revisions to skip patterns and the wording of some items for clarity.

• Moved all items about jobs to the beginning of the survey (Section A) to collect this information first because of its importance.

• Added items on the effect of COVID-19 including changes in jobs as a result of the pandemic (A02a); whether any physical, mental, or emotional condition that limits work is related to COVID-19 (A22a); employment challenges related to the pandemic (A23); receipt of advice on how to meet workplace requirements related to COVID-19 (B01m); and vaccination status (C10a).

• Removed some benefits from the list of benefits available at the respondent's current or last job (A16), dropped the industry and occupation items, and removed most items about employment challenges (A23) to reduce burden.

• Added questions about confidence in ability to seek employment (A25) for one program.

• Removed the distinctions between receiving services in one-on-one settings and group settings (B01 and B02) to reduce burden. Added an item about attendance at any group support meetings (B02) for one program.

• Modified the items (B01) about receipt of services to better match the services offered by the programs in the project.

• Removed questions related to the amount of time spent in employment services and ask only about the location where respondents received the most services (B03), rather than asking about all locations, to reduce burden.

• Replaced questions about each education or training program with questions about all programs attended (B04 to B05b) and removed questions about the amount of time spent in the program because education and training are not part of any selected program. Removed questions about employer-provided training because they were not relevant to any program. Added items about participating in education or training programs (B04a and B05a) at the time of the survey and receipt of a certificate or degree (B04c and B05b). Tailored the education and training questions for one program that works with young adults (B06-B08b) to make it easier for them to respond.

• Revised the recall period for mental health service receipt to the last 6 months instead of since random assignment (B10-B10b) to better match when the program expects to affect the receipt of these services.

• Added questions about receipt of services for physical medical conditions and receipt of mental health services for respondents' children within the last 6 months for one program (B11 and B11a).

• Removed items asking about the type of rental housing and number of days spent homeless since housing is not a focus of the selected programs. Moved the remaining housing questions to an earlier location in the survey (C01, C01a, and C02).

• Removed benefits from a question about benefit receipt (C03) that we do not expect many study participants to receive to reduce burden.

• Added a series of questions about financial help received from parents, relatives, friends, or neighbors and the amount received (C04b to C04e1) for a program serving young adults and an item to ask if the program helped them in having a trusted person they can turn to for job advice (D02d).

• Modified the emergency support items (C05-C07a) to ask how many people the respondents can turn to for help, to borrow money, or for advice, and added items on social trust (C07b and C07c) to measure social support more accurately.

• Added the Healthy Families Parenting Inventory's parenting efficacy subscale (C08) for one program that aims to improve mothers' belief in their parenting skills.

• Added items about confidence in future financial situations (C09a-C09b) for one program that aims to increase youths' belief in their ability to become self-sufficient.

• Added a question to ask if participants are covered by health insurance (C10b).

• Added the Center for Epidemiologic Studies Depression Scale Revised (CESD-R) (C22a) for use by a program that serves mothers with symptoms of depression. For this program, this more in-depth depression scale will be used instead of the shorter K-6 Distress Scale (C22).

• Added questions about whether the respondent is currently under court-ordered supervision (C38), whether any convictions were for felonies (C42), and if any of the reported incarcerations were for violating the terms of court-ordered supervision (C44) for a program that serves adults with criminal justice system involvement.

• Removed some items asking program group study participants about their satisfaction with the program.

We currently have OMB approval to provide a $40 gift card for follow-up survey completion. Based on new evidence, we propose to increase the first follow-up survey token of appreciation from $40 to $50 and to add a $5 prepaid gift card for the first follow-up survey sent with the advance letter. We would assess the effectiveness of the prepaid gift card using an experiment. If the experiment shows that prepaid tokens of appreciation are effective at increasing response rates or decreasing the treatment-control response rate differential, we will propose using it for remaining sample members for the first follow-up survey.

Second Follow-Up Survey (Instrument 4)

We propose changes to the second follow-up survey to match the changes proposed for the first follow-up survey. We propose introducing a $5 prepaid token of appreciation if the experiment for the first follow-up survey demonstrates it is effective. We do not propose changes to the previously approved $50 postpaid gift card for the second follow-up survey.

Respondents: Individuals enrolled in the NextGen Project.

Annual Burden Estimates

The annual burden estimates for the instruments we are requesting to revise are presented below. All currently approved materials under OMB # 0970-0545 and the associated burden can be found at: https://www.reginfo.gov/public/do/PRAViewICR?ref_nbr=202012-0970-003.

Instrument | Total number of respondents | Annual number of respondents | Number of responses per respondent | Average burden hours per response | Annual burden hours
PHASE 2
First follow-up survey—participants | 8,000 | 2,667 | 1 | 0.83 | 2,214
Second follow-up survey—participants | 8,000 | 2,667 | 1 | 0.83 | 2,214

Total Annual Burden Hours, Phase 2: 4,428.

Authority: Section 413 of the Social Security Act, as amended by the FY 2017 Consolidated Appropriations Act, 2017 (Pub. L. 115-31).

Mary B. Jones,
ACF/OPRE Certifying Officer.

[FR Doc. 2022-06403 Filed 3-25-22; 8:45 am]

BILLING CODE 4184-09-P